DEPARTMENT OF JUSTICE

Notice of Lodging Proposed Consent Decree

In accordance with Clean Air Act section 113(g), 42 U.S.C. 7413(g) and 28 CFR 50.7, notice is hereby given that a proposed Third Supplemental Consent Decree in Concerned Citizens for Nuclear Safety, Inc. v. United States Department of Energy, Case No. 94-1039 M (D.N.M.), was lodged with the United States District Court for the District of New Mexico on July 2, 2002. This proposed Third Supplemental Consent Decree resolves plaintiffs' claims for the costs of monitoring the audit conducted in 2002, pursuant to the Consent Decree entered by the Court on March 25, 1997.

The Department of Justice will accept written comments relating to this proposed Third Supplemental Consent Decree for thirty (30) days from the date of publication of this notice. Please address comments to Eileen McDonough, Environmental Defense Section, United States Department of Justice, P.O. Box 23986, Washington, DC 20026-3986 and reference DJ# 90-5-2-1-1749A.

The proposed Third Supplemental Consent Decree may be examined at the Clerk's Office, United States District Court for the District of New Mexico, South Federal Plaza, Santa Fe, New Mexico 87501.

Mary Edgar,
Assistant Section Chief, Environmental Defense Section, Environment and Natural Resources Division.

[FR Doc. 02-20690 Filed 8-14-02; 8:45 am]

BILLING CODE 4410-15-M